FEDERAL COMMUNICATIONS COMMISSION

[OMB 3060-0009, OMB 3060-0594, OMB 3060-0601 and OMB 3060-0609]

Information Collections Being Reviewed by the Federal Communications Commission Under Delegated Authority

Correction

In notice document 2018-14858, appearing on pages 32288 through 32289, in the issue of Thursday, July 12, 2018, make the following correction:

On page 32288, in the second column, in the DATES paragraph, on the second line, “August 13, 2018” should read “September 10, 2018”.

[FR Doc. C1-2018-14858 Filed 7-24-18; 8:45 am]

BILLING CODE 1301-00-D